DEPARTMENT OF HOMELAND SECURITY

Coast Guard

33 CFR Part 117

[Docket No. USCG-2021-0181]

Drawbridge Operation Regulation; Old River, Between Victoria Island and Byron Tract, CA

AGENCY: Coast Guard, DHS.

ACTION: Notification of temporary deviation from regulations; request for comments.

SUMMARY: The Coast Guard has issued a temporary deviation from the operating schedule that governs the California Department of Transportation Route 4 highway bridge, across Old River, mile 14.8, between Victoria Island and Byron Tract, California. The amount of vessel traffic transiting the bridge site does not warrant an open on signal requirement for this drawbridge. This deviation will test a change to the drawbridge operation schedule to determine whether a permanent change to the schedule is needed. The Coast Guard is seeking comments from the public regarding these proposed changes.

DATES: This deviation is effective from 6 a.m. on May 10, 2021, through 6 a.m. on August 7, 2021. Your comments and related material must reach the Coast Guard on or before August 7, 2021.

ADDRESSES: You may submit comments identified by docket number USCG-2021-0181 using Federal eRulemaking Portal at https://www.regulations.gov. See the “Public Participation and Request for Comments” portion of the SUPPLEMENTARY INFORMATION section below for instructions on submitting comments.

FOR FURTHER INFORMATION CONTACT: If you have questions on this test deviation, call or email Mr. Carl Hausner, Eleventh Coast Guard District, Bridge Section Chief; telephone (510) 437-3516, email Carl.T.Hausner@uscg.mil.

SUPPLEMENTARY INFORMATION:

I. Table of Abbreviations

CFR Code of Federal Regulations

DHS Department of Homeland Security

U.S.C. United States Code

II. Background and Purpose

The California Department of Transportation (Caltrans) Route 4 highway bridge has a vertical clearance of 12.7 feet above mean high water in the closed-to-navigation position, and operates in accordance with 33 CFR 117.183.

Caltrans has requested a permanent change in the operation schedule of the bridge due to the increase in vehicular traffic and a decrease in vessel traffic. Population growth and the cost of housing has increased land traffic traveling from the central valley to the San Francisco Bay Area for work. From 2011 to 2020 the bridge has opened 5.4 times per month from April through September and 2.9 times per month from October through March. Throughout the year, vessels requesting an opening are: recreational vessels, 21.5%; commercial vessels, 14.6%; government vessels conducting research, 60.5%; and law enforcement, 3.3%.

This test deviation will evaluate the impacts to navigation on the waterway. From 6 a.m. on May 10, 2021 through 6 a.m. on August 7, 2021, the drawspan of the bridge will open on signal if at least four hours notification is given to the drawtender at the Rio Vista Bridge across the Sacramento River, mile 12.8. Primary number, 707-374-2134; Secondary number, 209-948-7556. Caltrans will document vessel transits during this deviation and log any comments the drawtender receives by the waterway users. Caltrans will also document any benefits to land traffic during this period.

By requiring vessel operators to plan in advance for an opening of the drawspan, it is anticipated the expected impacts to navigation during this test deviation will be minimal. Vessels that can transit the bridge, while closed, can continue to do so at any time. The Coast Guard will notify the boating public and all other interested parties by formal letter sent to all marinas within 25 miles of the bridge. There is no alternative route for vessels requiring an opening of the drawspan.

The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

III. Information Requested

We are seeking comments from waterway users to understand the impacts of the contemplated change to the operating schedule of Caltrans Route 4 highway bridge, across Old River, mile 14.8, between Victoria Island and Byron Tract, California.

IV. Public Participation and Request for Comments

We encourage you to submit comments through the Federal portal at https://www.regulations.gov. In your submission, please include the docket number for this notice of inquiry and provide a reason for each suggestion or recommendation. If your material cannot be submitted using https://www.regulations.gov, contact the person in the FOR FURTHER INFORMATION CONTACT section of this document for alternate instructions.

We accept anonymous comments. Comments we post to https://www.regulations.gov will include any personal information you have provided. For more about privacy and submissions in response to this document, see DHS's eRulemaking System of Records notice (85 FR 14226, March 11, 2020).

Documents mentioned in this temporary deviation as being available in this docket, and all public comments, will be in our online docket at https://www.regulations.gov and can be viewed by following that website's instructions. We review all comments received, but we may choose not to post off-topic, inappropriate, or duplicate comments that we receive. If you visit the online docket and sign up for email alerts, you will be notified when comments are posted or if a final rule is published.

This document is issued under authority of 5 U.S.C. 552 (a).

Dated: April 23, 2021.
Carl T. Hausner,
District Bridge Chief, Eleventh Coast Guard District.

[FR Doc. 2021-09202 Filed 4-30-21; 8:45 am]

BILLING CODE 9110-04-P